DEPARTMENT OF TRANSPORTATION

Maritime Administration

[Docket No. MARAD-2011 0093]

Requested Administrative Waiver of the Coastwise Trade Laws

AGENCY: Maritime Administration, Department of Transportation.

ACTION: Invitation for public comments on a requested administrative waiver of the Coastwise Trade Laws for the vessel SOMEDAY IS NOW.

SUMMARY: As authorized by 46 U.S.C. 12121, the Secretary of Transportation, as represented by the Maritime Administration (MARAD), is authorized to grant waivers of the U.S.-build requirement of the coastwise laws under certain circumstances. A request for such a waiver has been received by MARAD. The vessel, and a brief description of the proposed service, is listed below. The complete application is given in DOT docket MARAD-2011-0093 at http://www.regulations.gov. Interested parties may comment on the effect this action may have on U.S. vessel builders or businesses in the U.S. that use U.S.-flag vessels. If MARAD determines, in accordance with 46 U.S.C. 12121 and MARAD's regulations at 46 CFR part 388 (68 FR 23084, April 30, 2003), that the issuance of the waiver will have an unduly adverse effect on a U.S.-vessel builder or a business that uses U.S.-flag vessels in that business, a waiver will not be granted. Comments should refer to the docket number of this notice and the vessel name in order for MARAD to properly consider the comments. Comments should also state the commenter's interest in the waiver application, and address the waiver criteria given in § 388.4 of MARAD's regulations at 46 CFR part 388.

DATES: Submit comments on or before August 11, 2011.

ADDRESSES: Comments should refer to docket number MARAD-2011-0093. Written comments may be submitted by hand or by mail to the Docket Clerk, U.S. Department of Transportation, Docket Operations, M-30, West Building Ground Floor, Room W12-140, 1200 New Jersey Avenue, SE., Washington, DC 20590. You may also send comments electronically via the Internet at http://www.regulations.gov. All comments will become part of this docket and will be available for inspection and copying at the above address between 10 a.m. and 5 p.m., E.T., Monday through Friday, except Federal holidays. An electronic version of this document and all documents entered into this docket is available on the World Wide Web at http://www.regulations.gov.

FOR FURTHER INFORMATION CONTACT: Joann Spittle, U.S. Department of Transportation, Maritime Administration, 1200 New Jersey Avenue, SE., Room W21-203, Washington, DC 20590. Telephone 202-366-5979, E-mail Joann.Spittle@dot.gov.

SUPPLEMENTARY INFORMATION: As described by the applicant the intended service of the vessel SOMEDAY IS NOW is:

Intended Commercial Use of Vessel: “I intend to operate my Small Uninspected Passenger Vessel (private motor yacht) to carry six or fewer passengers for hire on partial-day cruises. All cruising will be in the San Diego area, with pick-up and drop-off at piers within San Diego Bay. The following cruise services will be offered: Luxury Cruises within San Diego Harbor and along the Point Loma shoreline. Afternoon or evening excursions will be catered with fine hors doeuvres and beverages matching the quality of a 4-Star restaurant. Holiday Events will be highlighted by city fireworks displays. Dolphin and Whale Watching Cruises in nearby coastal waters, with high-quality catering provided. As a professional oceanographer I will be sharing my knowledge of oceanographic processes and marine biology with passengers. A Progressive Waterfront Restaurant Tour with stops at fine establishments along the shorefront of San Diego Bay. Mission Bay Nautical Excursions, with high-quality catering. Up-close fireworks displays will be seen on weekend evenings when SeaWorld is presenting pyrotechnics. Wedding Services for small private parties, with a Marriage Certificate generated at sea. Dignified Services for Burial at Sea with a Navigation Certificate generated to document the exact location where cremation remains were dispersed. Our specialty for all excursions will be the small, intimate setting aboard a classic teak-interior yacht, plus excellent hors doeuvres and wine.”

Geographic Region: “California.”

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78).

By Order of the Maritime Administrator.
Dated: July 5, 2011.
Christine Gurland,
Secretary, Maritime Administration.

[FR Doc. 2011-17503 Filed 7-11-11; 8:45 am]

BILLING CODE 4910-81-P